DEPARTMENT OF THE TREASURY

Internal Revenue Service

26 CFR Part 602

[TD 9087]

RIN 1545-BA07

Exclusions From Gross Income of Foreign Corporations

Correction

In rule document 03-21354 beginning on page 51394 in the issue of Tuesday, August 26, 2003, make the following correction:

§ 602.101 [Corrected]

On page 51417, in § 602.101(b), in the table, in the second line, “11.883-2” should read, “1.883-2”.

[FR Doc. C3-21354 Filed 9-2-03; 8:45 am]

BILLING CODE 1505-01-D